DEPARTMENT OF THE INTERIOR

Fish and Wildlife Service

[FWS-R8-ES-2016-N194]; [FXES11130800000-178-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before December 9, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION:

The following applicants have applied for scientific research permits to conduct certain activities with endangered species under section 10(a)(1)(A) of the Act (16 U.S.C. 1531 et seq.). We seek review and comment from local, State, and Federal agencies and the public on the following permit requests

Applicants

Permit No. TE-04969C

Applicant: Tara DeSilva, Livermore, California

The applicant requests a permit to take (harass by survey, capture, handle, and release) the California tiger salamander (Santa Barbara County and Sonoma County Distinct Population Segment (DPS)) (Ambystoma californiense) in conjunction with survey activities throughout the range of the species in California for the purpose of enhancing the species' survival.

Permit No. TE-06677C

Applicant: Mercedes Gaffney, Sadie McGarvey, Brisbane, California

The applicant requests a permit to take (harass by survey, capture, handle, and release) the California tiger salamander (Santa Barbara County and Sonoma County Distinct Population Segment (DPS)) (Ambystoma californiense) in conjunction with survey activities throughout the range of the species in California for the purpose of enhancing the species' survival.

Permit No. TE-007520

Applicant: Julie Simonsen, San Diego, California

The applicant requests a permit renewal to take (harass by survey, capture, and release) the Casey's June beetle (Dinacoma caseyi); and take (survey by pursuit) the Quino checkerspot butterfly (Euphydryas editha quino) in conjunction with survey activities throughout the range of the species in California, for the purpose of enhancing the species' survival.

Permit No. TE-787644

Applicant: William Vanherweg, San Luis Obispo, California

The applicant requests a permit renewal to take (harass by survey, capture, handle, mark, and release) the Fresno kangaroo rat (Dipodomys nitratoides exilis), Tipton kangaroo rat (Dipodomys nitratoides nitratoides), and San Joaquin kit fox (Vulpes macrotis mutica); and take (harass by survey, capture, handle, and release) the giant kangaroo rat (Dipodomys ingens), and Morro Bay kangaroo rat (Dipodomys heermanni morroensis) in conjunction with survey activities throughout the range of the species in California for the purpose of enhancing the species' survival.

Permit No. TE-810380

Applicant: Whitney Environmental Consulting, Rocklin, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-176209

Applicant: San Francisco International Airport, San Francisco, California

The applicant requests a permit renewal to take (harass by survey, capture, handle, transfer, hold for less than 24 hours, and release) the San Francisco garter snake (Thamnophis sirtalis tetrataenia) in conjunction with survey and habitat enhancement activities in lands on and near the San Francisco International Airport within San Mateo county, California for the purpose of enhancing the species' survival.

Permit No. TE-97717A

Applicant: Melissa Blundell, Oxnard, California

The applicant requests a permit renewal to take (locate and monitor nests and remove brown-headed cowbird (Molothrus ater) eggs and chicks from parasitized nests) the least Bell's vireo (Vireo bellii pusillus); and take (harass by survey) the southwestern willow flycatcher (Empidonax traillii extimus) in conjunction with survey and population monitoring activities throughout the range of the species in California for the purpose of enhancing the species' survival.

Permit No. TE-781220

Applicant: William Wagner, Hemet, California

The applicant requests a permit renewal to take (survey by pursuit) the Quino checkerspot butterfly (Euphydryas editha quino) in conjunction with survey activities throughout the range of the species in California for the purpose of enhancing the species' survival.

Permit No. TE-081306

Applicant: Howard Clark, Clovis, California

The applicant requests a new permit to take (harass by survey, capture, handle, and release) the Fresno kangaroo rat (Dipodomys nitratoides exilis), Tipton kangaroo rat (Dipodomys nitratoides nitratoides), giant kangaroo rat (Dipodomys ingens), San Bernardino Merriam's kangaroo rat (Dipodomys merriami parvus), Stephens' kangaroo rat (Dipodomys stephensi), Morro Bay kangaroo rat (Dipodomys heermanni morroensis), Pacific pocket mouse (Perognathus longimembris pacificus), riparian brush rabbit (Sylvilagus bachmani riparius), riparian woodrat (Neotoma fuscipes riparia), Buena Vista Lake shrew (Sorex ornatus relictus), salt marsh harvest mouse (Reithrodontomys raviventris), and blunt-nosed leopard lizard (Gambelia silus) in conjunction with survey activities throughout the range of the species in California for the purpose of enhancing the species' survival.

Permit No. TE-797267

Applicant: Triple HS, Inc., Los Gatos, California

The applicant requests a permit renewal to take (harass by survey, capture, handle, and release) the Fresno kangaroo rat (Dipodomys nitratoides exilis), Tipton kangaroo rat (Dipodomys nitratoides nitratoides), giant kangaroo rat (Dipodomys ingens), and tidewater goby (Eucyclogobius newberryi); take (harass by survey, capture, handle, measure, mark, collect fur samples, and release) the salt marsh harvest mouse (Reithrodontomys raviventris); take (harass by survey, capture, handle, collect tissue samples for genetic analysis, and release) the California tiger salamander ((central distinct population segment (DPS), Santa Barbara County DPS, and Sonoma County DPS) (Ambystoma californiense)); take (harass by survey using taped vocalization and collect sediment samples from occupied habitat) the California Ridgway's rail (California clapper r.) (Rallus obsoletus obsoletus) (R. longirostris o.); take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey and research activities throughout the range of the species in California for the purpose of enhancing the species' survival.

Permit No. TE-06873C

Applicant: Environmental Science Associates, San Diego, California

The applicant requests a new permit to take (survey by pursuit) the Quino checkerspot butterfly (Euphydryas editha quino); and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-163017

Applicant: California Department of Fish and Wildlife, Sacramento, California

The applicant requests a permit renewal to take (capture, handle, mark, collect biological samples, radio-collar, survey, translocate, and release) the Peninsular bighorn sheep (Ovis canadensis nelsoni) in conjunction with survey activities and collection of biological information throughout the range of the species in California for the purpose of enhancing the species' survival.

Permit No. TE-163017

Applicant: The Living Desert, Palm Desert, California

The applicant requests a new permit to take (administer veterinary care for, house, and display for educational purposes) the Peninsular bighorn sheep (Ovis canadensis nelsoni) in conjunction with general husbandry activities at the Living Desert Zoological park in Palm Desert California for the purpose of enhancing the species' survival.

Permit No. TE-022230

Applicant: Jeff Kidd, Murrieta, California

The applicant requests a permit renewal to take (survey by pursuit) the Quino checkerspot butterfly (Euphydryas editha quino) and take (harass by performing predator control activities within habitat) the California least tern (Sternula antillarum browni) (Sterna a. browni) in conjunction with survey activities throughout the range of the species in California for the purpose of enhancing the species' survival.

Permit No. TE-793645

Applicant: Donald Alley, Brookdale, California

The applicant requests a permit renewal to take (harass by survey, capture, handle, and release) the tidewater goby (Eucyclogobius newberryi) in Monterey, San Mateo, Santa Cruz, and San Luis Obispo Counties, California, in conjunction with survey activities for the purpose of enhancing the species' survival.

Permit No. TE-08276C

Applicant: Shannon Brown, Encinitas, California

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-08288C

Applicant: Robin Kinmont, Escondido, California

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-08293C

Applicant: Travis Marella, Santa Paula, California

The applicant requests a new permit to take (harass by survey, capture, handle, and release) the tidewater goby (Eucyclogobius newberryi) in conjunction with survey activities throughout the range of the species in California for the purpose of enhancing the species' survival.

Permit No. TE-016591

Applicant: Condor Country Consulting, Inc., Martinez, California

The applicant requests a permit renewal to take (harass by survey, capture, handle, release, collect vouchers, collect branchiopod cysts, collection and translocation of inocula from dry vernal pools to created pools) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, mark, and release) the San Francisco garter snake (Thamnophis sirtalis tetrataenia); and take (harass by survey, capture, handle, and release) the California tiger salamander ((central distinct population segment (DPS), Santa Barbara County DPS, and Sonoma County DPS) (Ambystoma californiense)) in conjunction with survey activities throughout the range of the species in California for the purpose of enhancing the species' survival.

Permit No. TE-93072A

Applicant: Joel Mulder, Ventura, California

The applicant requests a permit renewal to take (harass by survey, capture, handle, and release) the tidewater goby (Eucyclogobius newberryi) and the unarmored threespine stickleback (Gasterosteus aculeatus williamsoni) in conjunction with survey activities throughout the range of the species in California, for the purpose of enhancing the species' survival.

Permit No. TE-046262

Applicant: Blake Claypool, San Diego, California

The applicant requests a new permit to take (survey by pursuit) the Quino checkerspot butterfly (Euphydryas editha quino); and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-221294

Applicant: Michael Galloway, San Diego, California

The applicant requests a permit renewal and amendment to take (survey by pursuit) the Quino checkerspot butterfly (Euphydryas editha quino); and take (harass by survey, capture, handle, release, collect vouchers, and collect branchiopod cysts) the San Diego fairy shrimp (Branchinecta sandiegonensis), Riverside fairy shrimp (Streptocephalus woottoni), and vernal pool tadpole shrimp (Lepidurus packardi) in conjunction with survey activities in San Diego County, California, for the purpose of enhancing the species' survival.

Permit No. TE-035336

Applicant: Vollmar Natural Lands Consulting, Berkeley, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the California tiger salamander ((central distinct population segment (DPS), Santa Barbara County DPS, and Sonoma County DPS) (Ambystoma californiense)); and remove/reduce to possession Amsinckia grandiflora (large-flowered fiddleneck) from lands under Federal jurisdiction in conjunction with survey activities throughout the range of the species in California for the purpose of enhancing the species' survival.

Permit No. TE-048739

Applicant: Daniel A. Cordova of U.S. Bureau of Reclamation, Sacramento, California

The applicant requests a permit amendment to take (harass by survey, capture, handle, release, collect vouchers, and collect branchiopod cysts) the Conservancy fairy shrimp (Branchinecta conservatio), longhorn fairy shrimp (Branchinecta longiantenna), and vernal pool tadpole shrimp (Lepidurus packardi); in conjunction with survey activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Karen A. Jensen,
Acting Regional Director, Pacific Southwest Region, Sacramento, California.

[FR Doc. 2016-27043 Filed 11-8-16; 8:45 am]

BILLING CODE 4333-15-P